DEPARTMENT OF LABOR

Employment and Training Administration

[TA-W-38,307 and TA-W-38,307A]

Progress Lighting, Cowpens, SC; Progress Lighting, Philadelphia, PA; Amended Certification Regarding Eligibility To Apply for Worker Adjustment Assistance

In accordance with section 223 of the Trade Act of 1974 (19 U.S.C. 2273) the Department of Labor issued a Notice of Certification Regarding Eligibility to Apply for Worker Adjustment Assistance on November 28, 2000, applicable to workers of Progress Lighting, Cowpens, South Carolina. The notice was published in the Federal Register on December 21, 2000 (65 FR 80457).

At the request of the International Brotherhood of Electrical Workers, Local 2005, the Department reviewed the certification for workers of the subject firm. The company reports that worker separations occurred at the Philadelphia, Pennsylvania location of Progress Lighting. The Philadelphia, Pennsylvania location is a distribution center for the lighting fixtures produced in Cowpens, South Carolina.

Based on these findings, the Department is amending the certification to include workers of the Philadelphia, Pennsylvania location of Progress Lighting.

The intent of the Department's certification is to include all workers of Progress Lighting who were adversely affected by increased imports.

The amended notice applicable to TA-W-38,307 is hereby issued as follows:

All workers of Progress Lighting, Cowpens, South Carolina (TA-W-38,307) and Progress Lighting, Philadelphia, Pennsylvania (TA-W-38,307A) who became totally or partially separated from employment on or after October 28, 1999 through November 28, 2002, are eligible to apply for adjustment assistance under Section 223 of the Trade Act of 1974.

Signed at Washington, DC, this 25th day of July, 2002.
Edward A. Tomchick,
Director, Division of Trade Adjustment Assistance.

[FR Doc. 02-20192 Filed 8-8-02; 8:45 am]

BILLING CODE 4510-30-P